DEPARTMENT OF COMMERCE

Foreign-Trade Zones Board

[Order No. 1752]

Voluntary Termination of Foreign-Trade Subzone 75D, STMicroelectronics, Inc., Phoenix, AZ

Pursuant to its authority under the Foreign-Trade Zones Act of June 18, 1934, as amended (19 U.S.C. 81a-81u), and the Foreign-Trade Zones Board Regulations (15 CFR part 400), the Foreign-Trade Zones Board (the Board) hereby adopts the following order:

Whereas, on December 12, 1995, the Board issued a grant of authority to the City of Phoenix (grantee of FTZ 75) authorizing the establishment of Foreign-Trade Subzone 75D at the STMicroelectronics, Inc., facility in Phoenix, Arizona (Board Order 795, 61 FR 1322, 01/19/1996);

Whereas, the City of Phoenix has advised that zone procedures are no longer needed at the facility and requested voluntary termination of Subzone 75D (FTZ Docket 24-2011); and,

Whereas, the request has been reviewed by the FTZ Staff and U.S. Customs and Border Protection officials, and approval has been recommended;

Now, therefore, the Board terminates the subzone status of Subzone 75D, effective this date.

Signed at Washington, DC, this 18th day of April 2011.
Ronald K. Lorentzen,
Deputy Assistant Secretary for Import Administration, Alternate Chairman, Foreign-Trade Zones Board.
Andrew McGilvray,
Executive Secretary.

[FR Doc. 2011-10320 Filed 4-27-11; 8:45 am]

BILLING CODE P